DEPARTMENT OF DEFENSE

Department of the Army

Preparation of a Programmatic Environmental Impact Statement (PEIS) on the Chemical and Biological Defense Program (CBDP)

AGENCY: U.S. Army Medical Research and Materiel Command, Department of the Army, DoD.

ACTION: Notice of intent.

SUMMARY: The Department of the Army announces its intention to prepare a PEIS that will assesses the potential environmental impacts associated with the execution of the DoD CBDP designed to protect our soldiers, sailors, marines, and airmen from the evolving chemical and biological threats they may encounter on the battlefield. The National Defense Authorization Act for Fiscal Year 1994 mandated the coordination and integration of all DoD CBDP. The Army is the executive agent for the CBDP.

ADDRESSES: Written comments concerning the PEIS should be addressed to Dr. Robert J. Carton, Environmental Coordinator, U.S. Army Medical Research and Materiel Command, ATTN: MCMR-RCQ-E, 504 Scott Street, Fort Detrick, MD 21702-5012.

FOR FURTHER INFORMATION CONTACT: Dr. Robert Carton at (301) 619-2004 or by fax at (301) 619-6694.

SUPPLEMENTARY INFORMATION: The mission of the DoD CBDP is to provide chemical and biological (CB) defense capabilities to allow the military forces of the United States to survive and successfully complete their operational missions in battlespace environments contaminated with CB warfare agents. If our military forces are not fully and adequately prepared to meet this threat, the consequences could be devastating. The CBDP to support this mission comprises research, development and acquisition activities. Each of the Military Services, the Joint Program Office for Biological Defense, and the Defense Advanced Research Projects Agency conduct CBDP activities. Some of these CBDP activities necessarily involve the use of hazardous chemicals or infectious disease agents for research, development, and production purposes. The controls on and the potential environmental consequences of such use both for the proposed action and for any reasonable alternatives will be a primary focus of the CBDP PEIS.

The CBDP is divided into six commodity areas. Each commodity area is managed by one of the Military Services and has an activity focus as follows:

(1) Contamination Avoidance (Army): Pursuit of technological advances in CB standoff detection, remote/early warning detection, sensor miniaturization, and improved detection sensitivity.

(2) Individual Protection (Marine Corps) and Collective Protection (Navy): Pursuit of technological advances that provide an individual with improved vision and voice capabilities, increased protection levels, and reduced heat stress over current individual protection equipment. Also the pursuit of technological advances that improve generic CB protective filters and fans, and advances that reduce the weight, volume, cost, logistics, and manpower requirements associated with providing individual and collective protection.

(3) Decontamination (Air Force): Pursuit of technological advances in sorbents, coatings, and physical removal, which will reduce logistics burden, manpower requirements, and lost operational capability associated with decontamination operations.

(4) Medical Protection (Army): Chemical defense efforts include development of pretreatment therapeutic drugs, diagnostic equipment, and other life support equipment for protection against and management of chemical warfare agents. Biological defense efforts include development of vaccines, drugs, and diagnostic medical devices for protection against validated biological warfare agents to include bacteria, viruses, and toxins of biological origin.

(5) Modeling and Simulation (Navy): Efforts include meteorological models, transport and dispersion models, hazard and casualty assessment, computational fluid dynamics, hydrocodes, and constructive, live, and virtual simulation.

The activities take place at numerous military installations and contractor facilities throughout the United States. Details concerning the CBDP are contained in the “Chemical and Biological Defense Program, Annual Report to Congress, March 2000.” This report may be downloaded in electronic format from the DoD web site at http://www.defenselink.com.

Although numerous environmental documents, dating back to the Final Programmatic Environmental Impact Statement on the Biological Defense Research and Development Program (April 1989), have been prepared analyzing the potential environmental consequences of various elements of the CBDP, no one document analyzes the potential environmental impacts of the full range of these activities. In keeping with the purposes of the National Environmental Policy Act, DoD has decided to prepare such a document in the form of a PEIS on the CBDP. This document will create an overarching framework that will continue to ensure fully informed Government decision making within this program and provide a single, up-to-date informational resource for the public.

Specifically, the PEIS will: (1) Update and expand current programmatic documentation, providing information on and analysis of the changes that have occurred in the biological defense program over the last decade; (2) enlarge the scope of the current programmatic documentation to include the chemical defense program; (3) provide a current programmatic NEPA document that will facilitate future Government decision making by allowing future environmental analyses under the CBDP to be tiered from it; and (4) share with the public the features of this program that demonstrate DoD's commitment to protect the environment and to ensure public safety during the execution of this operationally mandated program.

Proposed Action and Alternatives

The proposed action consists of the execution of an integrated program designed to protect our soldiers, sailors, marines, and airmen from the evolving chemical and biological threats they may encounter on the battlefield. The No-Action alternative, continuation of current CBDP operations as described in and covered by existing environmental analyses will be evaluated, as well as all other reasonable alternatives identified during the public scoping process.

Scoping Process

Public comments are solicited concerning the environmental issues related to the CBDP. Scoping activities will be designed to facilitate public involvement. The scoping process supporting this effort will include: establishment of the public CBDP PEIS web site at http://ChemBioEIS.detrick.army.mil; dissemination of public information packages; publications in local newspapers; and coordination with public interest groups. Public meetings may be held if subsequently determined appropriate. These efforts will allow the public to provide input regarding the scope of the study and reasonable alternatives. To permit sufficient time for the U.S. Army to fully consider public input on issues, written or e-mail comments should be mailed or transmitted to ensure receipt prior to the end of the scoping period that will be identified on the CBDP PEIS web site. E-mail comments may be submitted via the CBDP PEIS web site at http://ChemBioEIS.detrick.army.mil.

Dated: May 29, 2001.
Raymond J. Fatz,
Deputy Assistant Secretary of the Army (Environment, Safety and Occupational Health), OASA (I&E).

[FR Doc. 01-13892 Filed 6-1-01; 8:45 am]

BILLING CODE 3710-08-M